Title 3—

The President

Proclamation 10120 of November 20, 2020

National Family Week, 2020

By the President of the United States of America

A Proclamation

Families strengthen our communities, shape our values, and provide a foundation for future success. Families are—and will always be—the basic building block of our society. During National Family Week, we take time to honor and appreciate the many blessings of strong and healthy families, and we recognize that our policies must empower and enable them to flourish so they can contribute to an even brighter future for our great Nation.

Every family is unique and remarkable, and my Administration is committed to providing meaningful solutions to address the issues that matter most to them, especially when facing extraordinary challenges. As our Nation confronted the coronavirus pandemic, I signed the Coronavirus Aid, Relief, and Economic Security (CARES) Act to provide over $2 trillion in economic relief to quickly help families, small businesses, and communities, and the Families First Coronavirus Response Act, which provided timely and critical support for families by expanding paid family, medical, and sick leave. We also increased unemployment benefits, enhanced flexibility within unemployment insurance programs, suspended student loan payments, and removed the threat of foreclosures and evictions for families with Government guaranteed mortgages. My Administration continues to call on the Congress for additional support to sustain families through this pandemic, particularly those most harmed by State and local shutdown orders and other restrictions on economic activity.

The pandemic has placed great strain on American families, from those who have mourned the loss of a loved one to those who have struggled to adjust to new and burdensome daily routines. In times like this, mental health becomes even more important. That is why I signed an Executive Order to provide grant funding for easier access to mental health services, including telehealth, peer-to-peer, and safe in-person therapeutic treatments.

Despite impediments and adversity, we have made great progress to help bring an end to this terrible pandemic and rebuild our previously booming economy. In addition to identifying many successful therapeutics through Operation Warp Speed, I recently announced tremendous progress in developing and distributing safe and effective vaccines. Moreover, with unprecedented rapid reductions in unemployment and historic third-quarter growth, the United States, in just a few months, has recovered two-thirds of the economic output lost to the pandemic. America will fully recover not only emotionally and physically, but also fiscally, from the devastation of the pandemic—and our families will be the bedrock of our Nation's renewed success.

Families are our most cherished and sacred institution. They play a vital role in providing emotional, physical, and communal support and help us endure the inevitable difficulties of life. My Administration stands firm in supporting the success of our families by ensuring that every child—born and unborn—can thrive in a loving home with caregivers who are bolstered by access to childcare, paid family leave, school choice, and job training. By enacting tax cuts, lowering prescription drug prices, and working to increase wages and benefits, we have enabled families to keep more of their hard-earned money so they can realize their own American dream.

In this season of Thanksgiving, we thank God for the wonderful families across our great Nation who are working to build brighter, better, and more prosperous futures. This week, we acknowledge that we are only as strong as our families and vow to prioritize their well-being and to uphold their fundamental role in our society.

NOW, THEREFORE, I, DONALD J. TRUMP, President of the United States of America, by virtue of the authority vested in me by the Constitution and the laws of the United States, do hereby proclaim November 22 through November 28, 2020, as National Family Week. I invite communities, churches, and individuals to observe this week with appropriate ceremonies and activities to honor our Nation's families.

IN WITNESS WHEREOF, I have hereunto set my hand this twentieth day of November, in the year of our Lord two thousand twenty, and of the Independence of the United States of America the two hundred and forty-fifth.

[FR Doc. 2020-26228

Filed 11-24-20; 8:45 am]

Billing code 3295-F1-P